DEPARTMENT OF COMMERCE

International Trade Administration

[A-580-881]

Certain Cold-Rolled Steel Flat Products From the Republic of Korea: Amended Final Results of Antidumping Duty Administrative Review; 2021-2022

AGENCY: Enforcement and Compliance, International Trade Administration, Department of Commerce.

SUMMARY: The U.S. Department of Commerce (Commerce) is amending the final results of the administrative review of the antidumping duty order on certain cold-rolled steel flat products (cold-rolled steel) from the Republic of Korea (Korea) to correct a ministerial error. The period of review (POR) is September 1, 2021, through August 31, 2022.

DATES: Applicable March 28, 2024.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On February 23, 2024, Commerce published the Final Results of this review in the Federal Register.¹ On February 23, 2024, we received a timely ministerial error allegation from Steel Dynamics, Inc. (SDI), the petitioner.² No other party made a ministerial error allegation or rebutted the petitioner's ministerial error allegation. We are amending the Final Results to correct the ministerial error raised by SDI.

¹ See Certain Cold-Rolled Steel Flat Products from the Republic of Korea: Final Results of Antidumping Duty Administrative Review; 2021-2022, 89 FR 13689 (February 23, 2024) (Final Results), and accompanying Issues and Decision Memorandum.

² See Petitioner's Letter, “Ministerial Error Comments on Final Dumping Margin of Hyundai Steel Company,” dated February 23, 2024 (Ministerial Error Allegation).

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . .”

Ministerial Error

In the Final Results, we made a countervailing duty export subsidy offset in our calculations for Hyundai Steel Company (Hyundai).³ In its Ministerial Error Allegation, the petitioner noted that while Commerce intended to adjust Hyundai's U.S. price by a 0.04 percent export subsidy offset rate, it instead adjusted U.S. price by a four percent rate.⁴ We agree that we made this ministerial error in the Final Results and we are amending the Final Results to correct this ministerial error, pursuant to section 751(h) of the Act and 19 CFR 351.224(e). Correcting this error changes Hyundai's weighted-average dumping margin from 0.88 percent to 1.35 percent. As a result of these changes, the rate for the company not selected for individual examination, KG Dongbu Steel Co., Ltd. (KG Dongbu), also changes from 2.13 percent to 2.28 percent.

³ See Memorandum, “Amended Final Results Margin Calculation for Hyundai Steel Company,” dated concurrently with this notice (Hyundai Steel Amended Final Calculation Memo).

⁴ See Ministerial Error Allegation.

For a detailed discussion of the ministerial error, as well as Commerce's analysis, see Ministerial Error Memorandum.⁵ The Ministerial Error Memorandum is a public document and is on file electronically via Enforcement and Compliance's Antidumping and Countervailing Duty Centralized Electronic Service System (ACCESS). ACCESS is available to registered users at https://access.trade.gov.

⁵ See Memorandum, “Ministerial Error Allegation in the Final Results,” dated concurrently with this notice (Ministerial Error Memorandum); see also Hyundai Steel Amended Final Calculation Memo.

Amended Final Results

As a result of correcting the ministerial error described above, we determine that the following estimated weighted-average dumping margins exists for the period September 1, 2021, through August 31, 2022:

Exporter or producer | Weighted- average dumping margin (percent)
Hyundai Steel Company | 1.35
KG Dongbu Steel Co., Ltd | 2.28

Disclosure

We intend to disclose the calculations performed in connection with these amended final results of review to parties in this review within five days of the date of publication of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with these amended final results of review.

In accordance with 19 CFR 351.212(b)(1), for Hyundai, we calculated importer-specific ad valorem antidumping duty assessment rates based on the ratio of the total amount of dumping calculated for the examined sales for each importer to the total entered value of the sales for each importer.⁶ Where an importer-specific antidumping duty assessment rate is zero or de minimis, within the meaning of 19 CFR 351.106(c)(1), Commerce will instruct CBP to liquidate the appropriate entries without regard to antidumping duties.

⁶ We note that POSCO/POSCO International's (POSCO's) dumping margin did not change in these amended final results.

Commerce's “automatic assessment” will apply to entries of subject merchandise made during the period of review produced by Hyundai for which the examined company did not know that the merchandise that it sold to the intermediary company (e.g., a reseller, trading company, or exporter) was destined for the United States. In such instances, we will instruct CBP to liquidate such entries at the all-others rate if there is no rate for the intermediate company(ies) involved in the transaction.

For the company not selected for individual examination, KG Dongbu, we will instruct CBP to assess antidumping duties at an ad valorem assessment rate based on the weighted average of the cash deposit rates calculated for Hyundai and POSCO.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following amended cash deposit requirements will be effective for all shipments of the subject merchandise entered, or withdrawn from warehouse, for consumption on or after February 23, 2024, the publication date of the Final Results, as provided by section 751(a)(2)(C) of the Act: (1) the amended cash deposit rate for the companies listed above will be equal to the weighted-average dumping margin established in these amended final results of review; (2) for merchandise exported by producers or exporters not covered in this review but covered in a prior completed segment of the proceeding, the cash deposit rate will continue to be the company-specific rate published in the completed segment for the most recent period; (3) if the exporter is not a firm covered in this review, a prior review, or the less-than-fair-value (LTFV) investigation but the producer has been covered in a prior completed segment of this proceeding, then the cash deposit rate will be the rate established in the completed segment for the most recent period for the producer of the merchandise; and (4) the cash deposit rate for all other manufacturers or exporters will continue to be 20.33 percent, the all-others rate established in the LTFV investigation.⁷ These cash deposit requirements, when imposed, shall remain in effect until further notice.

⁷ See Certain Cold Rolled Steel Flat Products from Brazil, India, the Republic of Korea, and the United Kingdom: Amended Final Affirmative Antidumping Determinations for Brazil and the United Kingdom and Antidumping Duty Orders, 81 FR 64432, 64434 (September 20, 2016).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing these amended final results in accordance with sections 751(h) and 777(i)(1) of the Act and 19 CFR 351.224(e).

Dated: March 18, 2024.
Ryan Majerus,
Deputy Assistant Secretary for Policy and Negotiations, performing the non-exclusive functions and duties of the Assistant Secretary for Enforcement and Compliance.

[FR Doc. 2024-06609 Filed 3-27-24; 8:45 am]

BILLING CODE 3510-DS-P